DEPARTMENT OF HEALTH AND HUMAN SERVICES

Centers for Disease Control and Prevention

[CDC-2018-0060; Docket Number NIOSH-316]

Draft Current Intelligence Bulletin: NIOSH Practices in Occupational Risk Assessment

AGENCY: National Institute for Occupational Safety and Health (NIOSH) of the Centers for Disease Control and Prevention (CDC), Department of Health and Human Services (HHS).

ACTION: Notice of draft document available for public comment and online public meeting.

SUMMARY: The National Institute for Occupational Safety and Health (NIOSH) of the Centers for Disease Control and Prevention (CDC) announces the availability of the following draft document for public comment entitled Current Intelligence Bulletin: NIOSH Practices in Occupational Risk Assessment. To view the notice, document and related materials, visit https://www.regulations.gov and enter CDC-2018-0060 in the search field and click “Search”.

Table of Contents

• Dates

• Addresses

• For Further Information Contact

• Supplementary Information

• Background

• Online Public Meeting

• Instructions

DATES: The online meeting will be held September 13, 2018 from 1 p.m.-4 p.m., Eastern Time, or until the last public presenter has spoken, whichever occurs first. The public online meeting will be a web-based event available only by remote access. Members of the public who wish to provide public comments should plan to log in to the meeting at the start time listed. Members of the public who register with the NIOSH Docket Office, niocindocket@cdc.gov, to attend the public meeting will be provided the login information prior to the meeting.

ADDRESSES: Written comments submitted to the docket must be received by October 15, 2018. Written comments may be submitted by any of the following two methods:

• Federal eRulemaking Portal: https://www.regulations.gov. Follow the instructions for submitting comments.

• Mail: NIOSH Docket Office, 1090 Tusculum Ave., MS C-34, Cincinnati, Ohio 45226-1998.

FOR FURTHER INFORMATION CONTACT: Doug Daniels, Education and Information Division/NIOSH, 1090 Tusculum Avenue, Cincinnati, OH 45226-1998, telephone (513) 533-8329 (not a toll free number).

SUPPLEMENTARY INFORMATION:

Background: The proposed NIOSH document describes the underlying science and general approach used by NIOSH researchers when conducting high quality, scientifically sound assessments of the health risk associated with workplace hazards. The report focuses on chemical risk assessment practices; however, some of these practices may also benefit assessments of other workplace hazards, such as traumatic injury or work stress. Risk assessments are an important tool for informed decision-making on workplace safeguards; therefore, these assessments have supported NIOSH recommendations on limiting chemical exposures. The information provided by the proposed NIOSH document is intended for NIOSH risk assessors, other scientists, stakeholders, and the public to improve their understanding of the NIOSH risk assessment process.

The purpose of the public review of the draft document is to obtain comments on whether the proposed NIOSH draft document (1) adequately, clearly, and concisely explains NIOSH practices in risk assessment; and (2) demonstrates that its practices are consistent with the current scientific knowledge.

Purpose of Meeting

To discuss and obtain comments on the draft document, Current Intelligence Bulletin: NIOSH Practices in Occupational Risk Assessment. Special emphasis will be placed on discussion of the following questions for reviewers:

(1) Are the methods presented in the proposed NIOSH document consistent with the current scientific knowledge of toxicology, epidemiology, industrial hygiene, and risk assessment? If not, provide specific information and references that should be considered.

(2) Is there additional scientific information related to the issues of the proposed NIOSH document that should be considered for inclusion? If so, provide information and specify references for consideration. Is there any discussion in the document that should be omitted?

(3) Is information in the proposed NIOSH document explained in a clear and transparent manner? If not, specify (section, page, and line number) where clarification is needed.

Online Public Meeting

The meeting is open to the public, limited only by the number of logins available. The Adobe Connect license accommodates approximately 500 people. In addition, there will be an audio conference for those who cannot log in through a computer. There is no registration fee to attend this public online meeting. However, those wishing to attend are encouraged to register via email to NIOSH Docket Office niocindocket@cdc.gov by September 6, 2018. Registrants will be provided with the public meeting login information prior to the meeting. Individuals wishing to speak during the meeting may sign up when registering. Those who have not signed up to present in advance may be allowed to present at the meeting if time allows. Persons wanting to provide oral comments will be permitted up to 20 minutes. If additional time becomes available, presenters will be notified. Oral comments given at the meeting must also be submitted to the docket in writing in order to be considered by the Agency. Priority for attendance will be given to those providing oral comments. Other requests to attend the meeting will then be accommodated on a first-come basis. Unreserved attendees will be admitted as login space allows.

Instructions: All material submitted to the Agency should reference the agency name and docket number [CDC-2018-0060; NIOSH-316]. Each person making a comment will be asked to give his or her name and affiliation, and all comments (including their name and affiliation) will be posted without change to https://www.regulations.gov. All information received in response to this notice will be available for public examination and copying at the NIOSH Docket Office, Room 155, 1150 Tusculum Parkway, Cincinnati, Ohio 45226-1998.

Dated: July 23, 2018.
Frank J. Hearl,
Chief of Staff, National Institute for Occupational Safety and Health, Centers for Disease Control and Prevention.

[FR Doc. 2018-15967 Filed 7-25-18; 8:45 am]

BILLING CODE 4163-19-P